SURFACE TRANSPORTATION BOARD

[Docket No. EP 519 (Sub-No. 4)]

Notice of National Grain Car Council Meeting

AGENCY: Surface Transportation Board.

ACTION: Notice of National Grain Car Council meeting.

SUMMARY: Notice is hereby given of a meeting of the National Grain Car Council (NGCC), pursuant to the Federal Advisory Committee Act.

DATES: The meeting will be held on Tuesday, August 19, 2025, beginning at 1:00 p.m. (CDT), and is expected to conclude at 5:00 p.m. (CDT).

ADDRESSES: The meeting will be held at the InterContinental Kansas City at the Plaza, 401 Ward Pkwy., Kansas City, MO 64112. Phone: (816) 756-1500.

Virtual Meeting Access: To register for the virtual broadcast via Zoom, go to the following link: https://us02web.zoom.us/meeting/register/2Na7JpklSx2W0_NDg5Xqbw. Upon registration, you will receive a confirmation email with log-on details. Registration is available at any time prior to or during the meeting.

FOR FURTHER INFORMATION CONTACT: Jeremy Lutes at (202) 900-5226 or jeremy.lutes@stb.gov.

SUPPLEMENTARY INFORMATION: The NGCC was established by the Interstate Commerce Commission (ICC) as a working group to facilitate private-sector solutions and provide recommendations to the ICC (and now the Surface Transportation Board (Board)) on matters affecting rail grain car availability and transportation. Nat'l Grain Car Supply—Conference of Interested Parties, EP 519 (ICC served Jan. 7, 1994).

The general purpose of this meeting is to discuss rail carrier preparedness to transport the 2025 grain harvest. Agenda items include the following: remarks by Acting NGCC Chair Justin Cauley, Board Chairman Patrick J. Fuchs, Board Vice Chairman and NGCC Co-Chair Michelle A. Schultz, and Board Members Robert E. Primus and Karen J. Hedlund; reports by member groups on expectations for the upcoming harvest, domestic and foreign markets, the supply of rail cars, and rail service; and market and industry updates. The full agenda will be posted on the Board's website at www.stb.gov/resources/stakeholder-committees/grain-car-council.

The meeting will be conducted pursuant to the Federal Advisory Committee Act, 5 U.S.C. app. 10; Federal Advisory Committee Management, 41 CFR pt. 102-3; the NGCC charter; and Board procedures.

If you require an accommodation under the Americans with Disabilities Act for this meeting, please call (202) 245-0308 by August 13, 2025.

Public Attendance: This meeting is open to the public in-person on a space-available, first-come, first-served basis. The meeting also is open to the public via Zoom. Members of the public who wish to attend this meeting virtually via Zoom must register in advance of the meeting.

Public Comments: Members of the public may submit written comments to the NGCC at any time. Comments should be addressed to Jeremy Lutes, Designated Federal Officer for the NGCC, at jeremy.lutes@stb.gov. Any further communications about this meeting will be announced through the Board's website, www.stb.gov.

Decided: July 22, 2025.
By the Board, Scott M. Zimmerman, Acting Director, Office of Proceedings.
Zantori Dickerson,
Clearance Clerk.

[FR Doc. 2025-14010 Filed 7-24-25; 8:45 am]

BILLING CODE 4915-01-P